DEPARTMENT OF EDUCATION

National Advisory Committee on Institutional Quality and Integrity (NACIQI) Meeting

AGENCY: National Advisory Committee on Institutional Quality and Integrity, Office of Postsecondary Education, U.S. Department of Education.

ADDRESSES: U.S. Department of Education, Office of Postsecondary Education, 1990 K Street, NW., Room 8060, Washington, DC 20006.

ACTION: Notice of June 8-10, 2011, open meeting of the National Advisory Committee on Institutional Quality and Integrity and procedures for making third-party written comments concerning agencies scheduled for review.

SUMMARY: This notice sets forth the schedule and agenda of the upcoming June 8-10, 2011, open meeting of the NACIQI. It also informs members of the public how to submit third-party written comments concerning agencies scheduled for review. The notice of this meeting is required under Section 10(a)(2) of the Federal Advisory Committee Act (FACA) and Section 114(d)(1)(B) of the Higher Education Act of 1965, as amended (HEA).

SUPPLEMENTARY INFORMATION: Meeting Date and Place—The NACIQI meeting will be held on June 8-10, 2011, from 8:30 a.m. to approximately 5:30 p.m., at the Holiday Inn and Suites, Commonwealth Ballroom, 625 First Street, Alexandria, VA 22314.

NACIQI's Statutory Authority and Functions: The NACIQI is established under Section 114 of the Higher Education Act (HEA), as amended, 20 U.S.C. 1011c. The NACIQI advises the Secretary of Education about:

• The establishment and enforcement of the Criteria for Recognition of accrediting agencies or associations under Subpart 2, Part H, Title IV, HEA, as amended.

• The recognition of specific accrediting agencies or associations, or a specific State approval agency.

• The preparation and publication of the list of nationally recognized accrediting agencies and associations.

• The eligibility and certification process for institutions of higher education under Title IV, HEA.

• The relationship between: (1) Accreditation of institutions of higher education and the certification and eligibility of such institutions, and (2) State licensing responsibilities with respect to such institutions.

• Any other advisory functions relating to accreditation and institutional eligibility that the Secretary may prescribe.

Agenda: The agenda for the meeting on June 8, 2011, will include presentations to further inform the NACIQI generally regarding the reauthorization of the Higher Education Act (HEA), which may include the areas of accreditation of institutions of higher education, the certification and eligibility of such institutions for purposes of the Federal student aid programs authorized under Title IV of the HEA, the relationship between the two, and regarding State licensing responsibilities with respect to such institutions.

The June 9-10, 2011 portion of the meeting will be similar to a traditional NACIQI meeting where the review of specific accrediting agencies, State approval agencies, or Federal degree-granting agencies takes place. The agenda for the June 9-10, 2011 portion of the meeting will include the review of agencies that have submitted petitions for the renewal of recognition.

The following 12 agencies/institutions are tentatively scheduled for review during the June 9-10, 2011 portion of the June 2011 NACIQI meeting:

Nationally Recognized Accrediting Agencies

Petitions for Renewal of Recognition

1. Accreditation Commission for Acupuncture and Oriental Medicine.

2. Accrediting Bureau of Health Education Schools.

3. Accrediting Commission of Career Schools and Colleges.

4. Accrediting Council for Independent Colleges and Schools.

5. American Bar Association, Council of the Section of Legal Education and Admission to the Bar.

6. American Osteopathic Association, Commission on Osteopathic College Accreditation.

7. American Psychological Association, Committee on Accreditation.

8. Commission on Accrediting of the Association of Theological Schools.

9. Council on Occupational Education.

10. Teacher Education Accreditation Council, Accreditation Committee.

11. Transnational Association of Christian Colleges and Schools, Accreditation Commission.

Federal Agency Seeking Degree-Granting Authority

1. Air University, Maxwell Air Force Base, Montgomery, Alabama (request to award a Doctor of Philosophy degree in Military Strategy).

Under 10 U.S.C., Section 9134, in order for the U.S. Air Force's Air University to offer a new degree program, the Secretary of the U.S. Department of Education must have approved the degree in accordance with the Federal Policy Governing the Granting of Academic Degrees by Federal Agencies and Institutions (approved by a letter, dated December 23, 1954, from the Director, Bureau of the Budget, to the Secretary, Health, Education, and Welfare). Under the policy, the Secretary is required to establish a review committee to advise the Secretary concerning any proposal to authorize the granting of degrees by a Federal agency. After considering the criteria established by the policy, the review committee forwards its report concerning a Federal agency's proposed degree-granting authority to the Secretary, who then forwards the committee's report and the Secretary's recommendation to the Office of Management and Budget and the Department of Defense. The Secretary uses the NACIQI as the review committee required for this purpose.

Submission of Written Comments Concerning Agencies Scheduled for Review: Submit your written comments by e-mail no later than ten days after the date of publication, to the Accreditation and State Liaison (ASL) Records Manager at aslrecordsmanager@ed.gov with the subject line “Written Comments re: (agency name).” Do not send material directly to NACIQI members.

In all instances, your comments about agencies seeking continued recognition must relate to whether the agency meets the Criteria for Recognition. Third parties having concerns about agencies regarding matters outside the scope of the petition should report those concerns to Department staff.

Comments concerning the Air University's degree-granting authority request must relate to the criteria used to evaluate the institution. Those criteria may be obtained by submitting a request to aslrecordsmanager@ed.gov with the subject line “Request for Degree-Granting Authority Criteria.”

Only materials submitted by the deadline to the e-mail address listed in this notice, and in accordance with these instructions, become part of the official record concerning agencies scheduled for review and are considered by the Department and the NACIQI in their deliberations.

This notice announces the only opportunity you will have to submit written comments on the agencies scheduled for this meeting.

Requests to Make Oral Comments: There will be another notice that will invite the public to submit requests to make oral presentations before the NACIQI on the agencies scheduled for review. That notice will explain the two methods the public may use to request to make oral presentations and provide the instructions for each method. Plus, a separate, subsequent Federal Register notice will invite the public to submit written comments and/or requests to make oral presentations before the NACIQI on the reauthorization of the Higher Education Act. Again, neither subsequent notice will offer a second opportunity to submit written comments on the agencies/institutions scheduled for review.

Access to Records of the Meeting: The Department will record the meeting and post the official report of the meeting on the NACIQI Web site shortly after the meeting. Pursuant to the FACA, the public may also inspect the materials at 1990 K Street, NW., Washington, DC, by e-mailing aslrecordsmanager@ed.gov or by calling (202) 219-7067 to schedule an appointment.

Electronic Access to this Document: You may view this document, as well as all other Department of Education documents published in the Federal Register, in text or Adobe Portable Document Format (PDF), on the Internet at the following site: http://www.ed.gov/legislation/fedregister. To use PDF, you must have Adobe Acrobat Reader, which is available free at this site. If you have questions about using PDF, call the U.S. Government Printing Office (GPO), toll free, at 1-866-512-1830; or, in the Washington, DC area at (202) 512-0000.

Reasonable Accommodations: Individuals who will need accommodations for a disability in order to attend the June 8-10, 2011 meeting (i.e., interpreter services, assistive listening devices, and/or materials in alternative format) should contact Department staff by telephone: (202) 219-7011; or, e-mail: aslrecordsmanager@ed.gov, no later than May 2, 2011. We will attempt to meet requests after this date, but we cannot guarantee the availability of the requested accommodation. The meeting site is accessible.

FOR FURTHER INFORMATION CONTACT: Melissa Lewis, Executive Director, NACIQI, U.S. Department of Education, Room 8060, 1990 K Street, NW., Washington, DC 20006, telephone: (202) 219-7009; e-mail: Melissa.Lewis@ed.gov. Individuals who use a telecommunications device for the deaf (TDD) may call the Federal Information Relay Service at 1-800-877-8339, between 8 a.m. and 8 p.m., Eastern Standard Time, Monday through Friday.

Note: The official version of this document is the document published in the Federal Register. Free Internet access to the official edition of the Federal Register and the Code of Federal Regulations is available on GPO Access at: http://www.gpoaccess.gov/index.html.

Eduardo M. Ochoa,
Assistant Secretary for Postsecondary Education.

[FR Doc. 2011-5390 Filed 3-8-11; 8:45 am]

BILLING CODE 4000-01-P